DEPARTMENT OF THE TREASURY

Submission for OMB Review; Comment Request

August 25, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 3, 2005 to be assured of consideration.

United States Mint

OMB Number: 1525-0013.

Type of Review: Extension.

Title: Application for Commercial Product License and Application for Intellectual Property Use.

Form: U.S. Mint form 3044 and form 3045.

Description: The application forms allow individuals and business entities to apply for Non-product License or Commercial Product License to use United States Mint intellectual property and trademark and copyright materials for products.

Respondents: Business and other for-profit and individuals or households.

Estimated Number of Respondents: 120.

Estimated Total Reporting Burden: 131 hours.

Clearance Officer: Yvonne Pollard, (202) 722-7310, United States Mint, 799 9th Street, NW., 4th Floor, Washington, DC 20220.

OMB Reviewer: Alexander T. Hunt, (202) 395-7316, Office of Management and Budget, Room 10235, New Executive Office Building, Washington, DC 20503.

Michael A. Robinson,
Treasury PRA Clearance Officer.

[FR Doc. 05-17422 Filed 8-31-05; 8:45 am]

BILLING CODE 4810-37-P